DEPARTMENT OF COMMERCE

National Telecommunications and Information Administration

Digital Economy Board of Advisors, Establishment and Call for Nominations

AGENCY: National Telecommunications and Information Administration, U.S. Department of Commerce.

ACTION: Notice of establishment and call for nominations to serve on the Digital Economy Board of Advisors.

SUMMARY: The Assistant Secretary for Communications and Information announces the establishment of the Digital Economy Board of Advisors on behalf of the Secretary of Commerce. The Board will advise and provide recommendations to the Secretary, through the Assistant Secretary, on a broad range of issues concerning the digital economy and Internet policy. This Notice also requests nominations of individuals for membership on the Board.

DATES: Nominations should be submitted electronically using the online nomination form on or before December 23, 2015, at midnight Eastern Standard Time.

ADDRESSES: Applicants should submit nominations electronically, with the information specified below, using the online nomination form located at www.ntia.doc.gov/digital-economy.

FOR FURTHER INFORMATION CONTACT: Evelyn Remaley, Designated Federal Officer (DFO), at (202) 482-3821 or DEBA@ntia.doc.gov.

SUPPLEMENTARY INFORMATION: Pursuant the Federal Advisory Committee Act, as amended (5 U.S.C. App.) and the National Telecommunications & Information Administration's authorizing statute, 47 U.S.C. 904(b), the Assistant Secretary for Communications and Information (Assistant Secretary) announces the establishment of the Digital Economy Board of Advisors (the Board) on behalf of the Secretary of Commerce. The Board is established under the direction of the Secretary and with the concurrence of the General Services Administration.

I. Background

Economic prosperity is increasingly tied to the digital economy, which is a key driver of jobs, business creation, and innovation. Indeed, virtually every modern company relies on the Internet to grow and thrive. As a result, the Department of Commerce (Department) has made technology and Internet policy a top priority, investing resources to address the challenges and opportunities businesses face in a global economy.

On November 9, 2015, the Secretary of Commerce unveiled the Department's new Digital Economy Agenda, which will help businesses and consumers realize the potential of the digital economy to advance growth and opportunity. The Agenda focuses on four key objectives: promoting a free and open Internet worldwide; promoting trust online; ensuring access for workers, families, and companies; and promoting innovation. To support the Agenda, the Secretary has directed the creation of a Digital Economy Board of Advisors to enable the Department to have a mechanism for receiving regular advice from leaders in industry, academia, and civil society. The Secretary determined that the establishment of the Board is necessary and serves the public interest.

II. Description of Duties

The Board's primary duty will be to provide independent advice and recommendations to the Secretary, through the Assistant Secretary, on a broad range of policy issues impacting the digital economy. The Board will serve as a centralized forum for gathering consensus input from a wide range of stakeholders and experts. The Board's mission is to provide advice in furtherance of increasing domestic prosperity, improving education, and facilitating participation in political and cultural life through the application and expansion of digital technologies.

The Board's advice will focus on ensuring that the Internet continues to thrive as an engine of growth, innovation, and free expression. In carrying out its duties, the Board's activities may include, but are not limited to:

• Gathering information and providing an analysis of challenges related to the global free flow of information on the Internet, including policies that could restrict cross-border information flows;

• Providing advice on other policy matters that impact the digital economy, such as expanding broadband capacity, enhancing cybersecurity, protecting privacy, and examining the role of intermediaries;

• Promoting the development of new digital technologies, and

• Analyzing the impact of the Internet on job growth and the economy as a whole.

The Department will use the advice provided by the Board to inform its decision-making process and advance Administration goals.

III. Board Structure and Composition

The Board will be comprised of no fewer than five (5) and no more than 30 members, including the Chair(s). The Secretary will appoint members of the Board for two-year terms. Members will serve at the Secretary's pleasure and discretion and may be reappointed for additional terms. The Assistant Secretary, with input from the Secretary, will appoint one or more members to serve as Chair or Co-Chairs. The Chair(s) will serve at the pleasure and discretion of the Assistant Secretary. The Board will meet approximately quarterly, or as determined by the DFO.

The Board will consist of leaders in industry and civil society who are prominent experts in their fields and recognized for their professional achievements. The Secretary will appoint objective members and ensure balanced representation. Membership is voluntary and, thus, members will not receive compensation for their time or reimbursement for travel or per diem expenses.

Members of the Board will be appointed as Special Government Employees (SGEs). See http://www.oge.gov/Topics/Selected-Employee-Categories/Special-Government-Employees. As SGEs, members must comply with certain federal conflict of interest statutes and ethics regulations, including some financial disclosure requirements. To permit evaluation of possible sources of conflicts of interest, selected candidates will be asked to provide detailed information concerning financial interests, consultancies, research grants, and/or contracts that might be affected by recommendations of the Board.

Appointments will be made without regard to political affiliation. Each nominee will need to certify that he or she is not currently a registered federal lobbyist pursuant to the Lobbying Disclosure Act of 1995 (codified at 2 U.S.C. 1601 et seq.). See Revised Guidance on Appointment of Lobbyists to Federal Advisory Committees, Boards, and Commissions, Office of Management and Budget, 79 FR 47482 (Aug. 13, 2014). Each nominee will also be required to certify that he or she is not currently an agent of a foreign principal required to register pursuant to the Foreign Agents Registration Act of 1938, as amended (codified at 22 U.S.C. 611 et seq.).

If a term expires or a vacancy occurs during the life of the Board, the Assistant Secretary may recommend any of the following:

• Reappointment of an incumbent;

• Solicitation for new applications published in the Federal Register in accordance with regular procedures; or

• Selection of a replacement from a list of candidates whose applications were received within the previous year.

IV. Nominations

Individuals may nominate themselves or other individuals. Professional associations and other organizations may nominate one or more qualified persons for membership on the Board. Nominations shall state that the nominee has been consulted and is willing to serve as a Special Government Employee. All nominations must provide the following information:

• A letter of nomination stating the full name, affiliation, and contact information for the nominee, the basis for the nomination, and the nominee's field(s) of expertise;

• a biographical sketch of the nominee and/or a copy of his or her curriculum vitae; and

• if applicable, the name, return address, email address, and daytime phone number at which the nominator can be contacted.

Nominations should be submitted electronically using the online nomination form located at www.ntia.doc.gov/digital-economy.

The Assistant Secretary will review the nominations and make recommendations to the Secretary for appointments. Among other factors, the Secretary and Assistant Secretary will consider nominees' experience and knowledge of digital economy issues in addition to:

• Educational background (e.g., advance degree in engineering, economics, law, business, or public policy);

• Professional experience and accomplishments (e.g., nature of work, job function, projects, or publications); and

• Current employment and membership in associations (e.g., technology developers, manufacturers, academia, civil society, service providers with customers in domestic and international markets).

All appointments will be made without discrimination on the basis of age, ethnicity, gender, sexual orientation, disability, or cultural, religious, or socioeconomic status.

Dated: November 23, 2015.
Lawrence E. Strickling,
Assistant Secretary for Communications and Information.

[FR Doc. 2015-30226 Filed 11-25-15; 8:45 am]

BILLING CODE 3510-60-P